DEPARTMENT OF AGRICULTURE

Food and Nutrition Service

Submission for OMB Review; Comment Request

April 5, 2016.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by May 11, 2016 will be considered. Written comments should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Supplemental Nutrition Assistance Program (SNAP): Employment and Training Program Monitoring, Oversight and Reporting Measures.

OMB Control Number: 0584-NEW.

Summary of Collection: In an interim final rule, FNS is amending the SNAP regulations at 7 CFR 273 to implement the employment and training (E&T) provisions of section 4022 (a)(2) of the Agricultural Act of 2014 (P.L. 113-79). Section 4022 (a)(2) of the Agricultural Act of 2014 requires the Department to develop national reporting measures and for State agencies to report outcome data to the Department. State agencies are required to submit reports on the impact of certain E&T components and, in certain States, the E&T services provided to able-bodied adults without dependents (ABAWDs).

Need and Use of the Information: While a number of State agencies have collected various pieces of information about the outcome of their E&T efforts, this rule will require the reporting of uniform outcome data. With this information FNS will be able to identify more, and less, successful E&T practices and work with State agencies to improve their E&T programs. This process is critical to building a more effective E&T operation nationally that will help move more individuals into the workforce more quickly. Beyond the many benefits that earnings provide to SNAP's low income population, they also reduce the cost of SNAP.

Description of Respondents: State, Local, or Tribal Government.

Number of Respondents: 53.

Frequency of Responses: Recordkeeping; Reporting; Annually.

Total Burden Hours: 12,233.

Ruth Brown,
Departmental Information Collection Clearance Officer.

[FR Doc. 2016-08175 Filed 4-8-16; 8:45 am]

BILLING CODE 3410-30-P